DEPARTMENT OF HEALTH AND HUMAN SERVICES

National Institutes of Health

National Cancer Institute; Amended Notice of Meeting

Notice is hereby given of a change in the meeting of the National Cancer Advisory Board, February 7, 2013, 6:30 p.m. to February 8, 2013, 5:00 p.m., National Institutes of Health, Building 31, 31 Center Drive, Conference 10, Bethesda, MD 20892 which was published in the Federal Register on January 14, 2013, 78 FR 2682.

This notice is being amended to cancel the Ad hoc Global Cancer Research Subcommittee on February 7, 2013 from 6:30 p.m. to 8:30 p.m. at the Hyatt Regency Bethesda Hotel, One Bethesda Metro Center, Bethesda, MD 20814, and to add the Ad hoc Subcommittee on Communications meeting on February 7, 2013 from 6:30 p.m. to 8:30 p.m. which will convene at the same location.

Dated: January 18, 2013.
Carolyn A. Baum,
Program Analyst, Office of Federal Advisory Committee Policy.

[FR Doc. 2013-01470 Filed 1-24-13; 8:45 am]

BILLING CODE 4140-01-P